DEPARTMENT OF ENERGY

Federal Energy Regulatory Commission

[Docket No. CP06-3-000]

Trunkline LNG Company, LLC; Notice of Filing

October 11, 2005.

Take notice that on October 5, 2005, Trunkline LNG Company, LLC (Trunkline LNG), P.O. Box 4967, Houston, Texas 77210-4967, filed an abbreviated application, pursuant to section 7(c) of the Natural Gas Act (NGA) and part 157 of the Commission's Rules and Regulations, for a Certificate of Public Convenience and Necessity requesting authorization to acquire an undivided 50% interest in a gas turbine power generator and appurtenant facilities located at Trunkline LNG's liquefied natural gas (LNG) terminal near Lake Charles, Louisiana. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Trunkline LNG proposes to acquire an undivided 50% ownership interest in an existing gas turbine/generator, Unit 2204—JA, and appurtenant facilities from PLCG, formerly CMS Panhandle Lake Charles Generation, LLC, formerly PanEnergy Lake Charles Generation, Inc. Trunkline LNG will continue to use Unit 2204—JA with its 16 megawatts of generating capability as a back-up power source for ship unloading and emergency back-up power needs. The acquisition of the facilities will be in place and will not result in any ground disturbance.

Any questions regarding the application are to be directed to William W. Grygar, Vice President of Rates and Regulatory Affairs, 5444 Westheimer Road, Houston, Texas 77056-5306; phone number (713) 989-7000.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: November 1, 2005.

Magalie R. Salas,
Secretary.

[FR Doc. E5-5701 Filed 10-14-05; 8:45 am]

BILLING CODE 6717-01-P